DEPARTMENT OF HEALTH AND HUMAN SERVICES

National Institutes of Health

Center for Scientific Review; Amended Notice of Meeting

Notice is hereby given of a change in the meeting of the International and Cooperative Projects—1 Study Section, October 01, 2013, 10:00 a.m. to October 01, 2013, 06:00 p.m., National Institutes of Health, 6701 Rockledge Drive, Bethesda, MD 20892 which was published in the Federal Register on September 03, 2013, 78 FR 54260.

The meeting will start on November 5, 2013 at 08:00 a.m. and end November 8, 2013 at 06:00 p.m. The meeting location remains the same. The meeting is closed to the public.

Dated: October 21, 2013.
Melanie J. Gray,
Program Analyst, Office of Federal Advisory Committee Policy.

[FR Doc. 2013-25034 Filed 10-24-13; 8:45 am]

BILLING CODE 4140-01-P